ENVIRONMENTAL PROTECTION AGENCY

[EPA-R06-OAR-2009-0202; FRL-8902-2]

Adequacy Status of the Crittenden County, AR Maintenance Plan 8-Hour Ozone Motor Vehicle Emission Budgets for Transportation Conformity Purposes

AGENCY: Environmental Protection Agency (EPA).

ACTION: Notice of adequacy.

SUMMARY: EPA is notifying the public that it has found that the motor vehicle emissions budgets (MVEBs) in the Crittenden County, Arkansas Redesignation Request/Maintenance Plan State Implementation Plan (SIP) revision, submitted on February 24, 2009 and supplemented on March 6, 2009, by the Arkansas Department of Environmental Quality (ADEQ) are adequate for transportation conformity purposes. As a result of EPA's finding, Crittenden County must use these MVEBs for future conformity determinations for the 1997 8-hour ozone standard.

DATES: These MVEBs are effective May 22, 2009.

FOR FURTHER INFORMATION CONTACT: Jeffrey Riley, Air Planning Section, U.S. Environmental Protection Agency, Region 6, 1445 Ross Avenue, Dallas, Texas 75202-2733. Mr. Riley can also be reached by telephone at (214) 665-8542, or via electronic mail at riley.jeffrey@epa.gov. The finding is available at EPA's conformity Web site: http://www.epa.gov/otaq/stateresources/transconf/currsips.htm.

SUPPLEMENTARY INFORMATION: This notice is simply an announcement of a finding that EPA has already made. EPA Region 6 sent a letter to ADEQ on April 20, 2009, stating that the MVEBs in the Crittenden County Redesignation Request/Maintenance Plan SIP, submitted on February 24, 2009 and supplemented on March 6, 2009, are adequate for the Crittenden County, Arkansas portion of the Memphis, Tennessee 1997 8-hour ozone nonattainment area and must be used for transportation conformity determinations in Crittenden County. The bi-state Memphis, Tennessee 8-hour ozone nonattainment area (Area) is comprised of the following counties: Crittenden in Arkansas, and Shelby in Tennessee. Arkansas' Redesignation Request/Maintenance Plan submittal addresses only MVEBs for the Arkansas portion of this Area. The MVEBs for the Tennessee portion of this Area are addressed in a separate submittal provided by Tennessee. EPA is addressing the adequacy of the Tennessee MVEBs through a separate notice. EPA posted the availability of the Crittenden County budgets on EPA's Web site on March 11, 2009, as part of the adequacy process, for the purpose of soliciting comments. The comment period for the Arkansas submittal ran from March 11, 2009, through April 10, 2009. During EPA's adequacy comment period, no adverse comments were received on the Crittenden County on-road MVEBs. This finding has also been announced on EPA's conformity Web site: http://www.epa.gov/otaq/stateresources/transconf/pastsips.htm.

The adequate MVEBs are provided in the following table:

Crittenden County, AR 8-Hour Ozone MVEBs
[Tons per day]
Year | NOX | VOC
2006 | 6.27 | 2.95
2021 | 1.84 | 1.39

Transportation conformity is required by section 176(c) of the Clean Air Act. EPA's conformity rule, 40 Code of Federal Regulations (CFR) part 93, requires that transportation plans, programs and projects conform to state air quality implementation plans and establishes the criteria and procedures for determining whether or not they do so. Conformity to a SIP means that transportation activities will not produce new air quality violations, worsen existing violations, or delay timely attainment of the national ambient air quality standards.

The criteria by which EPA determines whether a SIP's MVEBs are adequate for transportation conformity purposes are outlined in 40 CFR 93.118(e)(4). We have also described the process for determining the adequacy of submitted SIP budgets in our July 1, 2004, final rulemaking entitled, “Transportation Conformity Rule Amendments for the New 8-hour Ozone and PM2.5 National Ambient Air Quality Standards and Miscellaneous Revisions for Existing Areas; Transportation Conformity Rule Amendments: Response to Court Decision and Additional Rule Changes” (69 FR 40004). Please note that an adequacy review is separate from EPA's completeness review, and it should not be used to prejudge EPA's ultimate approval of the Crittenden County Maintenance Plan SIP revision submittal. Even if EPA finds a budget adequate, the Maintenance Plan SIP revision submittal could later be disapproved.

Within 24 months from the effective date of this notice, the transportation partners will need to demonstrate conformity to the new MVEBs if the demonstration has not already been made, pursuant to 40 CFR 93.104(e). See, 73 FR 4419 (January 24, 2008).

Authority: 42 U.S.C. 7401 et seq.

Dated: April 29, 2009.
Lawrence E. Starfield,
Acting Regional Administrator, Region 6.

[FR Doc. E9-10654 Filed 5-6-09; 8:45 am]

BILLING CODE 6560-50-P